DEPARTMENT OF TRANSPORTATION

Coast Guard

33 CFR Parts 151, 155, 157, and 158

46 CFR Part 172

[USCG-2000-7641]

RIN 2115-AF56

Pollution Prevention for Oceangoing Ships and Certain Vessels in Domestic Service

AGENCY: Coast Guard, DOT.

ACTION: Final rule.

SUMMARY: The Coast Guard amends regulations for pollution prevention from ships to align domestic requirements with international maritime pollution standards. This rule changes regulations concerning: oily-water separators, operational discharges of oil, damage and intact stability of tank vessels, period of validity for an International Oil Pollution Prevention Certificate, and garbage recordkeeping requirements. To provide consistency with industry standards and clarify U.S. oil regulations, we are also amending oily mixture discharge shore connection requirements for certain vessels and redefining certain terms dealing with oil.

DATES: This final rule is effective December 3, 2001.

ADDRESSES: Comments and materials received from the public, as well as documents mentioned in this preamble as being available in the docket, are part of docket USCG-2000-7641 and are available for inspection or copying at the Docket Management Facility, U.S. Department of Transportation, room PL-401, 400 Seventh Street SW., Washington, DC, between 9 a.m. and 5 p.m., Monday through Friday, except Federal holidays. You may also find this docket at http://dms.dot.gov/.

FOR FURTHER INFORMATION CONTACT: If you have questions on this rule, call Bob Gauvin, Vessel and Facility Operating Standards Division, Coast Guard, 202-267-1053. If you have questions on viewing the docket, call Dorothy Beard, Chief, Dockets, Department of Transportation, at 202-366-5149.

SUPPLEMENTARY INFORMATION:

Regulatory History

On August 8, 2000, we published a notice of proposed rulemaking (NPRM) entitled “Pollution Prevention for Oceangoing Ships and Certain Vessels in Domestic Service” in the Federal Register (65 FR 48548). We received 6 letters commenting on the proposed rule. No public hearing was requested, and none was held.

Background and Purpose

This rule amends U.S. regulations for pollution prevention from oceangoing ships and certain vessels in domestic service. These amendments were adopted by the Marine Environment Protection Committee (MEPC) of the International Maritime Organization (IMO) during several sessions. MEPC adopted amendments to Annex I of the International Convention for the Prevention of Pollution from Ships, 1973, as modified by the Protocol of 1978 (MARPOL 73/78) during its 32nd session (MEPC 32, March 6, 1992) and 40th session (MEPC 40, September 25, 1997). The MEPC also adopted amendments to Annex V of MARPOL, in its 37th session (MEPC 37, September 14, 1995). This rule will allow certain vessels in domestic service to use quick-connect fittings rather than international-type shore connections. We are also redefining certain terms dealing with oil in the domestic regulations for clarity.

By aligning the domestic regulations with international standards, compliant U.S. ships would encounter fewer difficulties while engaged in international trade. Under 33 U.S.C. 1902, the Coast Guard is authorized to prescribe or amend regulations necessary to implement any changes to the standards of MARPOL 73/78.

The following amendments, as provided in the NPRM, are listed below for your understanding and convenience. They have not been changed in the final rule.

Equivalent shore connections for the discharge of oily mixtures. The amendment of 33 CFR 155.410 and 33 CFR 155.420 will allow non-oceangoing ships of 100 gross tons and above, and oceangoing ships of 100 gross tons to less than 400 gross tons operating in domestic service to use any shore connections (quick-connect fittings) that are compatible with U.S. reception facilities instead of an international-type connection.

Definitions. We are redefining for clarity those words throughout 33 CFR parts 151, 155, 157, and 158 dealing with oil. Those words are: “oily mixtures,” “oil,” “oil cargo residues,” and “oil residues.” We are removing all conflicting and duplicative terms.

Amendments to Annex I of MARPOL are described in a Federal Register document published on November 12, 1993 (58 FR 60080). These amendments established more stringent criteria for controlling the discharge of oil and oily-water from vessels' machinery space bilges and cargo tanks of tank vessels.

Rate of discharge of oil. This rule amends 33 CFR 157.37(a) by reducing the allowable rate from 60 liters per nautical mile to 30 liters per nautical mile to align with the international standard set by MARPOL 73/78.

Controlling discharge from space bilges and tank vessels' cargo tanks. This rule amends 33 CFR 151.10(a)(5), 33 CFR 155.360(a), 33 CFR 155.370(a), and 33 CFR 157.39(b)(3) (redesignated as (b)(2)) by reducing the allowable oil content in effluent from oil tanker bilges and other ships of 400 gross tons and above from 100 parts per million (ppm) to 15 ppm.

Automatic stoppage of a discharge. This rule amends 33 CFR 155.370(a) to require ships of 400 gross tons to less than 10,000 gross tons that are carrying ballast water in their fuel oil tanks, and for ships over 10,000 gross tons, to have a means for automatically stopping discharges that exceed 15 ppm.

Discharge equipment. This rule amends 33 CFR 155.370(a), which requires all ships to comply with the oil filtering equipment, alarms, and automatic stop requirements by the rule's effective date.

International Oil Pollution Prevention (IOPP) Certificates. This rule sets the maximum term of validity for International Oil Pollution Prevention (IOPP) Certificates at 5 years to coincide with the International Maritime Organization's (IMO's) Harmonized System of Surveys and Certification, and MARPOL 73/78 standards.

Damage stability of tank vessels. This rule amends 33 CFR part 157, appendix B, and 46 CFR 172.065, table 172.065(a), to require oil tankers over 20,000 deadweight tons (DWT) to be designed to survive potential raking damage caused by grounding.

Intact stability of tankships. This rule adds two new sections—33 CFR 157.22 and 46 CFR 172.070—which require tankships over 5,000 DWT contracted after this rule's effective date to be designed to prevent lolling.

Garbage discharge records. This rule aligns U.S. garbage recordkeeping requirements with those in Regulation 9, Annex V of MARPOL. Oceangoing ships less than 400 gross tons and greater than 40 feet in length engaged in commerce are no longer required to carry garbage discharge records. Additionally, this rule requires every manned ship engaged in an international voyage that is certified to carry 15 passengers or more to carry garbage discharge records. These amendments do not change how vessel garbage is handled nor does it change the requirement to maintain a plan describing vessel waste management.

Note: A copy of MARPOL 73/78 is available from the International Maritime Organization, 4 Albert Embankment, London, SE1 7SR, England. It is also available online at http://www.imo.org/.

Discussion of Comments and Changes

We received 6 letters containing 11 specific comments in response to our NPRM. The information in this section discusses the comments we received, provides the Coast Guard's responses, and explains any changes we are making to the regulation.

1. Seven of the comments supported sections of the Coast Guard's proposed rule as written, and they generally supported the alignment of domestic regulations with international standards. These seven comments stated support for—

• Maintaining requirements for refuse logs on vessels of 400 gross tons and above, and those carrying 15 or more passengers on international voyages;

• The establishment of an equivalency for shore connections for vessels on domestic voyages; and

• An interpretation that fixed or floating production platforms would be excluded from oily-water separating equipment requirements with a valid NPDES permit issued under section 402 of the Clean Water Act and 40 CFR chapter I.

2. Three comments did not support the addition of 33 CFR 158.415, the proposed posting of placards for reporting inadequate port waste reception facilities. These comments discussed that posting these placards was impractical and costly and would not be helpful for reporting inadequate waste facilities to the Coast Guard. The Coast Guard agrees with these comments. Significant regulations are already in place that support the spirit of the proposed requirements and allow the Coast Guard to adequately police port reception facilities and permit anyone to report inadequacies. Therefore, we have removed proposed 33 CFR 158.415 from this final rule.

3. One comment proposed expanding the harmonization of U.S. regulations with MARPOL 73/78 to incorporate vessels below the 400 gross tonnage threshold for specific U.S. requirements on waste management plans. The Coast Guard does not agree with this comment as such a proposal is outside the scope of this rulemaking. Therefore, no change was made to the final rule.

4. In addition to the changes discussed in this section that were made in response to the comments, the Coast Guard is making an administrative edit to update a reference table's note within 33 CFR 151.26, “Shipboard oil pollution emergency plans.” As IMO resolution A.648(16) has been superceded by IMO resolution A.851(20), the reference to resolution A.648(16) in the note to table 151.26(b)(3)(iii) is changed to A.851(20).

Regulatory Evaluation

This rule is not a “significant regulatory action” under section 3(f) of Executive Order 12866, Regulatory Planning and Review, and does not require an assessment of potential costs and benefits under section 6(a)(3) of that Order. The Office of Management and Budget (OMB) has not reviewed it under that Order. It is not “significant” under the regulatory policies and procedures of the Department of Transportation (DOT) (44 FR 11040, February 26, 1979). A final Regulatory Evaluation under paragraph 10e of the regulatory policies and procedures of DOT follows:

Costs

The total present value costs for this rule during the 10-year period of analysis will approximate $3,037. The costs arise from the following requirements:

(a) Oily-water or bilge monitors. Based on the policies established in Navigation Vessel Inspection Circular (NVIC) No. 6-94, we estimate that at least 90 percent of the 131 affected tank vessels are currently operating within policy guidelines by automatically or manually setting the oil or oily-water discharge rate to not exceed 30 liters per nautical mile. The other 10 percent will simply upgrade their existing monitoring systems with new components that meet the new requirement. The estimated equipment costs to upgrade the components of an existing bilge monitor average $250, making the one-time cost of this requirement approximately $3,250. When valued in year 2000 dollars, the cost will be $3,037. A copy of NVIC No. 6-94 is available in the docket where indicated under ADDRESSES.

(b) Oil-filtering equipment. We estimate that requiring oil-filtering equipment will affect 650 vessels, all of which are currently practicing the policies established in NVIC No. 6-94 and currently have oil-filtering equipment that complies with the 15 ppm oil content of the effluent discharged. Therefore, this requirement does not impose additional costs.

(c) Automatic shut-off device/alarm. We estimate that requiring automatic shut-off devices/alarms will affect 396 ships, all of which already practice the policies established in NVIC No. 6-94. Therefore, this requirement does not impose additional costs.

(d) Damage stability for tank vessels. We estimate that the damage stability requirements will affect 650 vessels. Based on trend data from the Coast Guard's Marine Safety Management System (MSMS) database (1992-1996), we estimate that 13 U.S.-flag tank vessels of 20,000 deadweight tons (DWT) and above will be built each year. For every single-hull tank vessel that is phased out before 2015, a double-hull tank vessel may be built as its replacement. Currently, 54 single-hull tankships and 160 single-hull tank barges will be phased out over the next 16 years. For the 10-year period of analysis for the damage stability requirements, approximately 3 tankships and 10 tank barges will be built annually to meet demand and to replace phased-out tank vessels (130 tank vessels over the 10-year period). We expect the affected tank vessel fleet to incur minimal costs to comply with these requirements. The U.S. international fleet currently complies with the damage stability requirements in MARPOL 73/78. Also, vessels in the U.S. domestic fleet that hold IOPP Certificates currently meet the additional design and engineering calculation requirements for design stability. Moreover, under section 4115(a) of the Oil Pollution Act of 1990 (OPA 90), these single-hull tank vessels are required to be retrofitted with double hulls or phased out of service by the year 2015. For vessels being retrofitted, there will be nominal additional costs during the design process for additional stability analyses. The requirement entails fitting the vessel with U-shaped ballast tanks, instead of J-shaped (or other) ballast tanks, and relocating cargo tank boundaries.

(e) Intact stability for tank vessels. We assume that all tank vessels of 5,000 DWT and above will be constructed so that they are capable of engaging in international commerce. Therefore, we assume that, in order to participate in international commerce, currently operating tank vessels affected by the intact stability requirements already meet the requirements in MARPOL 73/78. No additional costs are incurred by these requirements.

(f) Equivalent shore connections. Certain U.S. ships that are used only for domestic voyages will be required to use shore connections that are compatible with U.S. reception facilities. Although these ships will not be in compliance with the international-type standard, they will meet the intent of the standard by having a connector that is compatible with discharge facilities in their area of operation. Because these ships currently have connections that are compatible with the facilities used, this requirement imposes no additional cost on these ships.

Benefits

(a) Industry benefits. The total present value of industry benefits for this rule during the 10-year period of analysis will be approximately $164.1 million. The industry benefits arise from the following requirements: IOPP Certificates ($3,715); garbage discharge records ($163.5 million); and compliance with international oil discharge limitations ($632,122).

(1) IOPP Certificates. Changing the term of the IOPP Certificate from 4 to 5 years for both inspected and uninspected vessels creates a benefit by reducing the costs incurred due to recertification. The costs for this change are included under the approved collection OMB 2115-0518. By aligning U.S. regulations with international standards, the annual paperwork burden cost will be reduced by $530. The 10-year accumulated present value of the recurring benefit is approximately $3,715.

(2) Refuse discharge. The refuse discharge requirement applies to each oceangoing ship of 400 gross tons and above engaged in commerce and documented under the laws of the United States or numbered by a State, each vessel certified to carry 15 passengers or more on international voyages, and each fixed or floating platform subject to the jurisdiction of the United States. We use these garbage discharge records to determine how ship-generated waste is handled (i.e., incinerated, discharged at sea, or off-loaded at a shore reception facility). Since all of these vessels currently maintain these records, this requirement imposes no additional information-collection burden.

Instead, this requirement creates an annual benefit for those vessels no longer required to maintain garbage discharge records. The total annual cost (burden) for this information-collection is estimated in revised OMB collection 2115-0613 to be $2.6 million, and it applies to 1,296 vessels. The previous requirement imposed an annual cost (burden) of $25.9 million on 16,878 vessels. This rule saves industry $23.3 million annually. Therefore, the accumulated present value for the 10-year period of this benefit is $163.5 million.

(3) Compliance with international oil discharge limitations. Complying with international oil discharge limitations will enable U.S. vessels to engage in international trade with minimal interruption. Vessels that are not in compliance with this requirement could be denied entry into ports of countries party to MARPOL 73/78 or could experience detention in these ports. These actions could result in a substantial monetary loss due to the vessel's inability to engage in trade. Assuming non-compliance with the international oil discharge limitations, resulting in one U.S. vessel being detained each year, we estimate the avoided cost (savings) of complying with this rulemaking will be $90,000 per year. The accumulated present value for the 10-year period of this benefit will be $632,122.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

In terms of costs, the oily-water or bilge monitors requirement will impose a $250 cost per tank vessel. This is a one-time cost, and in our view a very small additional cost to tank vessel owners, considering that the cost of a tank vessel, depending on its size, may be $100 million or more.

As for cost savings, the Coast Guard proposes removing from the CFR the requirement for garbage discharge records for ships of 12.2 meters (40 ft.) or more in length and less than 400 gross tons. These ships are most likely owned by the small entities in this industry and are no longer required to keep garbage disposal records. Therefore, the small entities that own these vessels benefit from the new regulation. We estimate that 15,582 oceangoing vessels will no longer need to meet that requirement, and the average annual avoided costs (savings) to each vessel will be $1,494 ($23.3 million/15,582 vessels). The accumulated present value of these avoided costs (savings) for the 10-year period of analysis will be $10,491 per vessel (163.5 million/15,582 vessels).

In addition, vessels of less than 400 GT that might be owned or operated by small entities will not be required to install oily-water separators, associated monitors, and alarms. Under § 155.350, these vessels will only need to comply with the existing requirement for retaining oily mixtures on board.

Also, under § 155.410(a)(3), U.S. non-oceangoing vessels between 100 GT and 400 GT will be allowed to install shore connections that are compatible with U.S. reception facilities. This rule allows vessels of less than 400 GT operating only in domestic service to use any shore connection that is compatible with U.S. reception facilities, rather than one that meets the international standard.

Therefore, the Coast Guard certifies under 5 U.S.C. 605(b) that this final rule will not have a significant economic impact on a substantial number of small entities.

Assistance for Small Entities

Under section 213(a) of the Small Business Regulatory Enforcement Fairness Act of 1996 (Public Law 104-121), the Coast Guard offered to assist small entities in understanding the rule so that they could better evaluate its effects on them and participate in the rulemaking.

Small entities, as well as the general public, were provided an opportunity to comment on the notice of proposed rulemaking published on August 8, 2000. No requests for assistance or for a public hearing were received.

This rule assists small entities by making the following changes to requirements: removing requirements for garbage disposal records from ships that are usually owned by small entities; removing requirements for oily-water separators, associated monitors, and alarms; and removing the requirement for certain vessels to install shore connections that meet the international standard. These actions provide cost savings to small entities.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule amends two collections of information under the Paperwork Reduction Act of 1995 (44 U.S.C. 3501-3520).

Refuse discharge. This requirement mandates that vessel owners develop and maintain garbage discharge records on board their vessels if those vessels are either oceangoing ships of 400 gross tons and above, or their vessels are certified to carry 15 or more passengers and are engaged in international voyages. Oceangoing vessels less than 400 gross tons will no longer be required to maintain garbage discharge records—with the exception of vessels certified to carry 15 passengers or more on international voyages. The burden for this requirement is included in a revised OMB collection 2115-0613. As required by 44 U.S.C. 3507(d), we submitted a copy of this rule to OMB for its review of the collection of information. OMB has approved the collection. The section number is 33 CFR 151.55, and the corresponding approval number from OMB is OMB Control Number 2115-0613, which expires on April 30, 2004.

IOPP Certificates. Changing the term of the IOPP Certificate from 4 to 5 years will decrease the information-collection burden on ship owners. The information-collection burden of the IOPP Certificate is included under the previously approved OMB collection 2115-0518. As required by 44 U.S.C. 3507(d), we submitted a copy of this rule to OMB for its review of the collection of information. OMB has approved the collection. The section number is 33 CFR 151.19, and the corresponding approval number from OMB is OMB Control Number 2115-0518, which expires on February 29, 2004.

You are not required to respond to a collection of information unless it displays a currently valid OMB control number.

Federalism

A rule has implications for federalism under Executive Order 13132, Federalism, if it has a substantial direct effect on State or local governments and would either preempt State law or impose a substantial direct cost of compliance on them.

We have analyzed this rule under that Order and have determined that it does not have implications for federalism.

It is well settled that States may not regulate in categories reserved for regulation by the Coast Guard. It is also well settled, now, that all of the categories covered in 46 U.S.C. 3306, 3703, 7101, and 8101 (design, construction, alteration, repair, maintenance, operation, equipping, personnel qualification, and manning of vessels), as well as the reporting of casualties and any other category in which Congress intended the Coast Guard to be the sole source of a vessel's obligations, are within the field foreclosed from regulation by the States. (See the decision of the Supreme Court in the consolidated cases of United States v. Locke and Intertanko v. Locke, 529 U.S. 89, 120 S.Ct. 1135 (March 6, 2000).

This rule concerns requirements for the construction (damage and intact stability), operation (operational discharges of oil, IOPP Certificates, and garbage recordkeeping requirements), and equipping (oily-water separators) of tank vessels or other oceangoing vessels. It also implements and allows the use of an optional type of shore connection equipment for domestic vessels discharging oily mixtures at shoreside facilities. This entire rule falls within the preempted categories listed above, which, as we have long held, apply to both inspected vessels as well as tank vessels. For this reason, preemption is not an issue in this rulemaking.

Unfunded Mandates Reform Act

The Unfunded Mandates Reform Act of 1995 (2 U.S.C. 1531-1538) requires Federal agencies to assess the effects of their regulatory actions not specifically required by law. In particular, the Act addresses actions that may result in the expenditure of $100 million or more in any one year by a State, local, or tribal government, in the aggregate, or by the private sector. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this final rule under Executive Order 13211, Actions Concerning Regulations that Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We considered the environmental impact of this rule and concluded that, under figure 2-1, paragraph (34)(d) and (34)(e), of Commandant Instruction M16475.1C, this rule is categorically excluded from further environmental documentation.

The rule aligns certain U.S. regulations with the international standards introduced in the amendments to MARPOL 73/78. These regulations fall under categorical exclusions 34 (d) and (e) regarding vessel equipment and approval. Therefore, this rule is categorically excluded from further environmental documentation. A “Categorical Exclusion Determination” is available in the docket where indicated under ADDRESSES.

List of Subjects

33 CFR Part 151

Administrative practice and procedure, Oil pollution, Penalties, Reporting and recordkeeping requirements, Water pollution control.

33 CFR Part 155

Hazardous substances, Incorporation by reference, Oil pollution, Reporting and recordkeeping requirements.

33 CFR Part 157

Cargo vessels, Oil pollution, Reporting and recordkeeping requirements.

33 CFR Part 158

Administrative practice and procedure, Harbors, Oil pollution, Penalties, Reporting and recordkeeping requirements, Water pollution control.

46 CFR Part 172

Cargo vessels, Hazardous materials transportation, Incorporation by reference, Marine safety.

For the reasons discussed in the preamble, the Coast Guard amends 33 CFR parts 151, 155, 157, and 158 and 46 CFR part 172 as follows:

PART 151—VESSELS CARRYING OIL, NOXIOUS LIQUID SUBSTANCES, GARBAGE, MUNICIPAL OR COMMERCIAL WASTE, AND BALLAST WATER

1. The authority citation for part 151, subpart A, continues to read as follows:

Authority: 33 U.S.C. 1321 and 1903; Pub. L. 104-227 (110 Stat. 3034), E.O. 12777, 3 CFR, 1991 Comp. p. 351; 49 CFR 1.46.

§ 151.01 [Amended]

2. In § 151.01, remove the note.

3. In § 151.05, revise the definitions of the terms “MARPOL 73/78”, “oil”, and “operational waste” and add, in alphabetical order, the definitions of “oil residue”, “oil cargo residue”, “fuel oil”, “oily rags”, and “operational waste” to read as follows:

§ 151.05 Definitions.

* * * * *

Fuel oil means any oil used to fuel the propulsion and auxiliary machinery of the ship carrying the fuel. The term “fuel oil” is also known as “oil fuel.”

* * * * *

MARPOL 73/78 means the International Convention for the Prevention of Pollution from Ships, 1973, as modified by the Protocol of 1978 relating to that Convention. A copy of MARPOL 73/78 is available from the International Maritime Organization, 4 Albert Embankment, London, SE1, SR7, England.

* * * * *

Oil means petroleum whether in solid, semi-solid, emulsified, or liquid form, including but not limited to, crude oil, fuel oil, sludge, oil refuse, oil residue, and refined products, and, without limiting the generality of the foregoing, includes the substances listed in Appendix I of Annex I of MARPOL 73/78. “Oil” does not include animal and vegetable based oil or noxious liquid substances (NLS) designated under Annex II of MARPOL 73/78.

Oil cargo residue means any residue of oil cargo whether in solid, semi-solid, emulsified, or liquid form from cargo tanks and cargo pump room bilges, including but not limited to, drainages, leakages, exhausted oil, muck, clingage, sludge, bottoms, paraffin (wax), and any constituent component of oil. The term “oil cargo residue” is also known as “cargo oil residue.”

Oil residue means—

(1) Oil cargo residue; and

(2) Other residue of oil whether in solid, semi-solid, emulsified, or liquid form, resulting from drainages, leakages, exhausted oil, and other similar occurrences from machinery spaces.

Oily mixture means a mixture, in any form, with any oil content. “Oily mixture” includes, but is not limited to—

(1) Slops from bilges;

(2) Slops from oil cargoes (such as cargo tank washings, oily waste, and oily refuse);

(3) Oil residue; and

(4) Oily ballast water from cargo or fuel oil tanks.

Oily rags means rags soaked with oil.

Operational waste means all cargo-associated waste, maintenance waste, and cargo residues other than oil residues and NLS cargo residues. “Operational wastes” includes ashes and clinkers (i.e., a mass of incombustible matter fused together by heat) from shipboard incinerators and coal-burning boilers but does not include plastic clinkers, which are treated as an Annex V waste, or oily rags, which are treated as an Annex I waste.

* * * * *

§ 151.08 [Amended]

4. In § 151.08(a), remove the words “oil or oily residues and mixtures” and add, in their place, the phrase “oil, oil residue, or oily mixtures”.

5. In § 151.10—

a. Revise the section heading to read as follows;

§ 151.10 Control of oil discharges.

* * * * *

b. In paragraph (a)(5), remove the number “100” and add, in its place, the number “15”;

c. In the note to paragraph (f), remove the words “residues and mixtures containing oil” and add, in their place, the words “oil residues and oily mixtures”; and

d. Revise paragraph (c), paragraph (f) introductory text, and paragraphs (f)(2)(i) through (f)(2)(iii) to read as follows:

(c) The overboard discharge of any oil cargo residues and oily mixtures that include oil cargo residues from an oil tanker is prohibited, unless discharged in compliance with part 157 of this chapter.

* * * * *

(f) The person in charge of an oceangoing ship that cannot discharge oily mixtures into the sea in compliance with paragraphs (a), (b), (c), or (d) of this section must ensure that those oily mixtures are—

* * * * *

(2) * * *

(i) The estimated time of day the ship will discharge oily mixtures;

(ii) The type of oily mixtures to be discharged; and

(iii) The volume of oily mixtures to be discharged.

* * * * *

6. In § 151.13, revise paragraph (b)(3) to read as set forth below and, in paragraph (f), remove the words “oil residues” and add, in their place, the words “oily mixtures”:

§ 151.13 Special areas for Annex I of MARPOL 73/78.

* * * * *

(b) * * *

(3) All ships operating in the Antarctic area must have on board a tank or tanks of sufficient capacity to retain all oily mixtures while operating in the area and arrangements made to discharge oily mixtures at a reception facility outside the Antarctic area.

* * * * *

7. In § 151.19, revise paragraph (e) introductory text to read as follows:

§ 151.19 International Oil Pollution Prevention (IOPP) Certificates.

* * * * *

(e) The IOPP Certificate for each inspected or uninspected ship is valid for a maximum period of 5 years from the date of issue, except as follows:

* * * * *

§ 151.25 [Amended]

8. In § 151.25—

a. In paragraph (d)(2), remove the words “dirty ballast” and add, in their place, the words “ballast containing an oily mixture”;

b. In paragraph (d)(3), remove the words “oily residues (sludge)” and add, in their place, the words “oil residue”; and

c. In paragraph (e)(10), remove the word “residues” and add, in its place, the words “oil residue”.

§ 151.26 [Amended]

9. In § 151.26—

a. In paragraphs (b)(3)(i)(A) and (b)(3)(i)(B), after the words “A discharge of oil”, add the words “or oily mixture”;

b. In paragraph (b)(3)(ii), in the note to table 151.26(b)(3)(ii), remove the phrase “resolution A.648(16)” and add in its place “resolution A.851(20)”; and

c. In paragraph (b)(3)(iii)(B), after the words “For actual or probable discharges of oil”, add the words “or oily mixtures”.

10. In § 151.55, revise paragraphs (a)(1) and (a)(2), add a new paragraph (a)(3), and revise paragraph (b) introductory text to read as follows:

§ 151.55 Recordkeeping requirements.

(a) * * *

(1) Every manned oceangoing ship (other than a fixed or floating platform) of 400 gross tons and above that is engaged in commerce and that is documented under the laws of the United States or numbered by a State.

(2) Every manned fixed or floating platform subject to the jurisdiction of the United States.

(3) Every manned ship that is certified to carry 15 passengers or more engaged in international voyages.

(b) The master or person in charge of each ship under paragraph (a)(1), (a)(2), or (a)(3) of this section shall ensure that a written record is maintained on the ship of each of the following garbage discharge or disposal operations:

* * * * *

PART 155—OIL OR HAZARDOUS MATERIAL POLLUTION PREVENTION REGULATIONS FOR VESSELS

11. The authority citation for part 155 continues to read as follows:

Authority: 33 U.S.C. 1231, 1321(j); 46 U.S.C. 3715, 3719; sec. 2, E.O. 12777, 56 FR 54757, 3 CFR, 1991 Comp., p. 351; 49 CFR 1.46, 1.46(iii). Sections 155.100 through 155.130, 155.350 through 155.400, 155.430, 155.440, 155.470, 155.1030(j) and (k), and 155.1065(g) also issued under 33 U.S.C. 1903(b); and §§ 155.1110 through 155.1150 also issued under 33 U.S.C. 2735.

§ 155.330 [Amended]

12. In § 155.330, in the section heading, remove the phrase “Bilge slops/fuel oil” and add, in its place, the phrase “Oily mixture (bilge slops)/fuel oil” and, in paragraph (b), remove the words “oily residue” and add, in their place, the words “oil residue”.

13. In § 155.350, revise the section heading and paragraph (a)(2) to read as follows and, in paragraph (b), remove the words “oily residue” and add, in their place, the words “oil residue”:

§ 155.350 Oily mixture (Bilge slops)/fuel oil tank ballast water discharges on oceangoing ships of less than 400 gross tons.

(a) * * *

(2) Has approved oily-water separating equipment for processing oily mixtures from bilges or fuel oil tank ballast and discharges into the sea according to § 151.10 of this chapter.

* * * * *

14. In § 155.360—

a. Revise the section heading to read as set forth below;

b. In paragraph (a), remove the number “100” and add, in its place, the number “15” and remove the words “oily bilge slops or oily” and add in their place “oily mixtures from bilges or”;

c. In paragraph (b), introductory text remove the phrase “oily residues (sludges)” and add, in its place, the words “oil residue”;

d. In paragraph (b)(2), remove the words “oily wastes” and add in their place “oily mixtures”; and

e. Revise paragraph (e) to read as follows:

§ 155.360 Oily Mixture (Bilge slops) discharges on oceangoing ships of 400 gross tons and above but less than 10,000 gross tons, excluding ships that carry ballast water in their fuel oil tanks.

* * * * *

(e) This section does not apply to a fixed or floating drilling rig or other platform, except as specified in § 155.400(a)(2).

* * * * *

15. In § 155.370—

a. Revise the section heading and paragraph (a) to read as set forth below;

b. In paragraph (b) introductory text, remove the phrase “oily residues (sludges)” and add, in its place, the words “oil residue”;

c. In paragraph (b)(1), remove the words “oily residues” and add, in their place, the words “oil residue”;

d. In paragraph (b)(2), remove the words “oily wastes” and add, in their place, the words “oily mixtures”;

e. Remove paragraph (d);

f. Redesignate paragraphs (e) and (f) as paragraphs (d) and (e), respectively; and

g. Revise newly redesignated paragraph (e) to read as follows:

§ 155.370 Oily mixture (bilge slops)/fuel oil tank ballast water discharges on oceangoing ships of 10,000 gross tons and above and oceangoing ships of 400 gross tons and above that carry ballast water in their fuel oil tanks.

(a) No person may operate an oceangoing ship of 10,000 gross tons and above, or any oceangoing ship of 400 gross tons and above, that carries ballast water in its fuel oil tanks, unless it has—

(1) Approved 15 ppm oily-water separating equipment for the processing of oily mixtures from bilges or fuel oil tank ballast;

(2) A bilge alarm; and

(3) A means for automatically stopping any discharge of oily mixture when the oil content in the effluent exceeds 15 ppm.

* * * * *

(e) This section does not apply to a fixed or floating drilling rig or other platform, except as specified in § 155.400(a)(2).

§ 155.380 [Amended]

16. In § 155.380, remove paragraph (c) and redesignate paragraph (d) as paragraph (c).

17. In § 155.410, revise paragraph (a)(3) to read as set forth below and, in paragraph (b), remove the words “oily bilge slops or oily” and add, in their place, the words “oily mixtures from bilges or”:

§ 155.410 Pumping, piping, and discharge requirements for non-oceangoing ships of 100 gross tons and above.

(a) * * *

(3) Each outlet required by this section has a shore connection that is compatible with reception facilities in the ship's area of operation; and

* * * * *

18. In § 155.420—

a. In paragraph (a)(3), remove the words “The outlet” and add, in their place, the phrase “For a ship on an international voyage, the outlet”;

b. Redesignate paragraphs (a)(4) and (a)(5) as paragraphs (a)(5) and (a)(6), respectively;

c. Add new paragraph (a)(4) to read as follows;

d. In newly designated paragraph (a)(5), remove the word “wastes” and add, in its place, “mixtures”; and

e. In paragraph (b), remove the words “oily bilge slops or oily” and add, in their place, the words “oily mixtures from bilges or”:

§ 155.420 Pumping, piping, and discharge requirements for oceangoing ships of 100 gross tons and above but less than 400 gross tons.

(a) * * *

(4) For a ship not on an international voyage, the outlet required by this section has a shore connection that is compatible with reception facilities in the ship's area of operation;

* * * * *

19. In § 155.430, revise paragraph (a) introductory text to read as set forth below:

§ 155.430 Standard discharge connections for oceangoing ships of 400 gross tons and above.

(a) All oceangoing ships of 400 gross tons and above must have a standard shore connection for reception facilities to discharge oily mixtures from machinery space bilges or ballast water containing an oily mixture from fuel oil tanks. The discharge connection must have the following dimensions:

* * * * *

§ 155.440 [Amended]

20. In § 155.440, in the section heading, remove the words “water ballast” and add, in their place, the words “ballast water”.

21. Revise § 155.810 to read as follows:

§ 155.810 Tank vessel security.

Operators of tank vessels carrying more oil cargo residue than normal in any cargo tank must assign a surveillance person or persons responsible for maintaining standard vessel security.

§ 155.1015 [Amended]

22. In § 155.1015, in paragraphs (a) and (c)(2), before the words “cargo residue”, add the word “oil”.

23. In § 155.1020, revise the definition of “petroleum oil” to read as follows:

§ 155.1020 Definitions.

* * * * *

Petroleum oil means petroleum in any form, including but not limited to, crude oil, fuel oil, sludge, oil residue, and refined products.

* * * * *

PART 157—RULES FOR THE PROTECTION OF THE MARINE ENVIRONMENT RELATING TO TANK VESSELS CARRYING OIL IN BULK

24. The authority citation for part 157 continues to read as follows:

Authority: 33 U.S.C. 1903; 46 U.S.C. 3703, 3703a (note); 49 CFR 1.46. Subparts G, H, and I are also issued under section 4115(b), Pub. L. 101-380, 104 Stat. 520; Pub. L. 104-55, 109 Stat. 546.

§ 157.03 [Amended]

25. In § 157.03—

a. In the definitions of “lightweight”, “oil fuel”, and “segregated ballast”, remove the words “oil fuel” and add, in their place, the words “fuel oil”;

b. In the definition of “slop tank”, remove the words “oil mixtures” and add, in their place, the words “oily mixtures”;

c. Add, in alphabetical order, the definitions of the terms “MARPOL 73/78”, “oil cargo residue”, “oil residue” and “oily mixture”;

d. Remove the definition of “MARPOL Protocol”; and

e. Revise the definition of “petroleum oil” to read as follows:

§ 157.03 Definitions.

* * * * *

MARPOL 73/78 means the International Convention for the Prevention of Pollution from Ships, 1973, as modified by the Protocol of 1978 relating to that Convention. A copy of MARPOL 73/78 is available from the International Maritime Organization, 4 Albert Embankment, London, SE1 7SR, England.

* * * * *

Oil cargo residue means any residue of oil cargo whether in solid, semi-solid, emulsified, or liquid form from cargo tanks and cargo pump room bilges, including but not limited to, drainages, leakages, exhausted oil, muck, clingage, sludge, bottoms, paraffin (wax), and any constituent component of oil. The term “oil cargo residue” is also known as “cargo oil residue.”

Oil residue means—

(1) Oil cargo residue; and

(2) Other residue of oil whether in solid, semi-solid, emulsified, or liquid form, resulting from drainages, leakages, exhausted oil, and other similar occurrences from machinery spaces.

Oily mixture means a mixture, in any form, with any oil content. “Oily mixture” includes, but is not limited to—

(1) Slops from bilges;

(2) Slops from oil cargoes (such as cargo tank washings, oily waste, and oily refuse);

(3) Oil residue; and

(4) Oily ballast water from cargo or fuel oil tanks, including any oil cargo residue.

* * * * *

Petroleum oil means petroleum in any form, including but not limited to, crude oil, fuel oil, sludge, oil residue, and refined products.

* * * * *

§ 157.04 [Amended]

26. In § 157.04(b), remove the words “MARPOL Protocol” and add, in their place, “MARPOL 73/78”.

§ 157.07 [Amended]

27. In § 157.07, remove the phrase “MARPOL Protocol” and add, in its place, the phrase “MARPOL 73/78”.

§ 157.11 [Amended]

28. In § 157.11(a), remove the words “cargo residues and other”.

§ 157.12 [Amended]

29. In § 157.12(b)(2), remove the phrase “MARPOL Protocol” and add, in its place, the phrase “MARPOL 73/78”.

30. Revise § 157.15(b) introductory text to read as follows:

§ 157.15 Slop tanks in tank vessels.

* * * * *

(b) Capacity. Slop tanks must have the total capacity to retain oily mixtures from cargo tank washings, oil residue, and ballast water containing an oily mixture of 3 percent or more of the oil carrying capacity. Two percent capacity is allowed if there are—

* * * * *

§ 157.17 [Amended]

31. In § 157.17—

a. In the section heading and in paragraphs (b) and (c), remove the words “oily residue” and add, in their place, the phrase “oil residue (sludge)”; and

b. In paragraph (a), remove the words “oily residue” and add, in their place, the words “oil residue”.

32. Add § 157.22 to read as follows:

§ 157.22 Intact stability requirements.

All tank ships of 5,000 DWT and above contracted after December 3, 2001 must comply with the intact stability requirements of Regulation 25A, Annex I MARPOL 73/78.

§ 157.24 [Amended]

33. In § 157.24(c)(2), remove the words “MARPOL Protocol” and add, in their place, “MARPOL 73/78”.

§ 157.24a [Amended]

34. In § 157.24a(b)(2), remove the words “MARPOL Protocol” and add, in their place, “MARPOL 73/78”.

§ 157.33 [Amended]

35. In § 157.33, remove the words “oil fuel” and add, in their place, the words “fuel oil”.

36. In § 157.37—

a. In paragraph (a)(3), remove the number “60” and add, in its place, the number “30”;

b. In paragraph (a)(7), remove the phrase “MARPOL Protocol” and add, in its place, the phrase “MARPOL 73/78”;

c. In paragraph (b), remove the word “residues” and add, in its place, the words “oil cargo residues”; and

d. Revise the section heading and paragraph (e) introductory text to read as follows:

§ 157.37 Discharge of oily mixtures from oil cargoes.

* * * * *

(e) Ballast water containing an oily mixture may be discharged below the waterline at sea by gravity if—

* * * * *

§ 157.39 [Amended]

37. In § 157.39—

a. In paragraph (a) and the introductory text of paragraph (b), remove the words “oil cargo mixture” and add, in their place, the words “oil cargo residue”;

b. Remove paragraph (b)(1);

c. Redesignate paragraphs (b)(2), (b)(3), and (b)(4) as paragraphs (b)(1), (b)(2), and (b)(3), respectively;

d. In newly designated paragraph (b)(2), remove the number “100” and add, in its place, the number “15”.

§ 157.43 [Amended]

38. In § 157.43(b) introductory text, remove the words “oil mixture” and add, in their place, the words “oily mixture”.

§ 157.118 [Amended]

39. In § 157.118(a)(1)(ii) and (a)(2)(i), remove the phrase “MARPOL Protocol” and add, in its place, the phrase “MARPOL 73/78”.

§ 157.138 [Amended]

40. In § 157.138(a)(1), remove the phrase “MARPOL Protocol” and add, in its place, the phrase “MARPOL 73/78”.

§ 157.140 [Amended]

41. In § 157.140(a)(1), remove the phrase “oil clingage or deposits of oil, or both” and add, in its place, the words “oil residues”.

§ 157.160 [Amended]

42. In § 157.160(a)(2) and (b)(3), remove the word “sludge” and add, in its place, “oil cargo residue”.

§ 157.216 [Amended]

43. In § 157.216(a)(1)(ii) and (a)(2)(i), remove the phrase “MARPOL Protocol” and add, in its place, the phrase “MARPOL 73/78”.

§ 157.224 [Amended]

44. In § 157.224(a), remove the phrase “MARPOL Protocol” and add, in its place, the phrase “MARPOL 73/78”.

§ 157.302 [Amended]

45. In § 157.302, paragraphs (b)(3) and (b)(6), remove the words “cargo residues” and add, in their place, the words “oil cargo residues”.

§ 157.304 [Amended]

46. In § 157.304(a), remove the words “cargo residues” and add, in their place, “oil cargo residues”.

§ 157.310 [Amended]

47. In § 157.310(c), remove the words “cargo residues” and add, in their place, the words “oil cargo residues”.

§ 157.400 [Amended]

48. In § 157.400(b)(2), remove the words “cargo residue” and add, in their place, the words “oil cargo residue”.

49. In part 157, appendix B, add paragraph 3(f) to read as follows:

Appendix B—Subdivision and Stability Assumptions

* * * * *

3. * * *

(f) For oil tankers of 20,000 DWT and above, the damage assumptions must be supplemented by the following assumed bottom raking damage:

(1) Longitudinal extent:

(i) For ships of 75,000 DWT and above, 0.6L measured from the forward perpendicular.

(ii) For ships of less than 75,000 DWT, 0.4L measured from the forward perpendicular.

(2) Transverse extent: B/3 anywhere in the bottom.

(3) Vertical extent: Breach of the outer hull.

Appendix D [Amended]

50. In part 157, appendix D, paragraph 2(a)(1), remove the word “slop” and add, in its place, the words “oily mixtures”.

PART 158—RECEPTION FACILITIES FOR OIL, NOXIOUS LIQUID SUBSTANCES, AND GARBAGE

51. The authority citation for part 158 continues to read as follows:

Authority: 33 U.S.C. 1903(b); 49 CFR 1.46.

§ 158.100 [Amended]

52. In § 158.100(b)(1), remove the words “Residues and mixtures containing oil” and add, in their place, the words “Oily mixtures”.

§ 158.110 [Amended]

53. In § 158.110(a)(1), remove the words “residues and mixtures containing oil” and add, in their place, the words “oily mixtures”.

54. In § 158.120—

a. Revise the section heading;

b. Remove the definition of “MARPOL Protocol”;

c. Revise the definition of “oil”;

d. In the definition of “reception facility”, remove the words “residues and mixtures containing oil” and add, in their place, the words “oily mixtures”; and

e. Add, in alphabetical order, the definitions of the terms “MARPOL 73/78”, “oil cargo residue”, “oil residue”, and “oily mixtures” to read as follows:

§ 158.120 Definitions.

* * * * *

MARPOL 73/78 means the International Convention for the Prevention of Pollution from Ships, 1973, as modified by the Protocol of 1978 relating to that Convention. A copy of MARPOL 73/78 is available from the International Maritime Organization, 4 Albert Embankment, London, SE1 7SR, England.

* * * * *

Oil means petroleum whether in solid, semi-solid, emulsified, or liquid form, including but not limited to, crude oil, fuel oil, sludge, oil refuse, oil residue, and refined products, and, without limiting the generality of the foregoing, includes the substances listed in Appendix I of Annex I of MARPOL 73/78. “Oil” does not include animal and vegetable based oil or noxious liquid substances (NLS) designated under Annex II of MARPOL 73/78.

Oil cargo residue means any residue of oil cargo whether in solid, semi-solid, emulsified, or liquid form from cargo tanks and cargo pump room bilges, including but not limited to, drainages, leakages, exhausted oil, muck, clingage, sludge, bottoms, paraffin (wax), and any constituent component of oil. The term “oil cargo residue” is also known as “cargo oil residue.”

Oil residue means—

(1) Oil cargo residue; and

(2) Other residue of oil resulting from drainages, leakages, exhausted oil, and other similar occurrences from machinery spaces.

Oily mixture means a mixture, in any form, with any oil content. “Oily mixture” includes, but is not limited to—

(1) Slops from bilges;

(2) Slops from oil cargoes (such as cargo tank washings, oily waste, and oily refuse);

(3) Oil residue; and

(4) Oily ballast water from cargo or fuel oil tanks.

* * * * *

§ 158.133 [Amended]

55. In § 158.133(a), remove the words “residues and mixtures containing oil” and add, in their place, the words “oily mixtures”.

§ 158.135 [Amended]

56. In § 158.135(a), remove the words “residues and mixtures containing oil” and add, in their place, the words “oily mixtures”.

57. Revise the heading of subpart B to read as follows:

Subpart B—Criteria for Reception Facilities: Oily Mixtures

§ 158.200 [Amended]

58. In § 158.200(a)(2), (a)(3)(i), (a)(3)(iii), and (b), remove the words “residues and mixtures containing oil” and add, in their place, the words “oily mixtures”; and, in (a)(3)(ii), remove the words “oily ballast” and add, in their place, the words “ballast water containing oily mixtures”.

§ 158.210 [Amended]

59. In § 158.210—

a. In paragraph (a), remove the word “Sludge” and add, in its place, the words “Oil residue”;

b. In paragraph (b), remove the words “Oily bilge water” and add, in their place, the words “Bilge water containing oily mixtures”; and

c. In paragraph (c), remove the words “Oily ballast” and add, in their place, the words “Ballast water containing oily mixtures”.

§ 158.220 [Amended]

60. In § 158.220—

a. In paragraph (a), remove the word “Sludge” and add, in its place, the words “Oil residue”;

b. In paragraph (b), remove the words “Oily bilge water” and add, in their place, the words “Bilge water containing oily mixtures”;

c. In paragraph (c), remove the words “Oily ballast” and add, in their place, the words “Ballast water containing oily mixtures”; and

d. In paragraph (d), remove the words “Cargo residue” and add, in their place, the words “Oil cargo residue”.

§ 158.230 [Amended]

61. In § 158.230—

a. In paragraph (a), remove the word “Sludge” and add, in its place, the words “Oil residue”; and

b. In paragraph (b), remove the words “Oily bilge water” and add, in their place, the words “Bilge water containing oily mixtures”.

62. In § 158.240, revise paragraphs (a) and (b), and the introductory text to paragraphs (c) and (d), to read as follows:

§ 158.240 Ship repair yards.

* * * * *

(a) An amount of ballast from bunker tanks, and the wash water and oil residue from the cleaning of bunker tanks and oil residue (sludge) tanks, equal to 8 percent of the bunker capacity of the largest oceangoing ship serviced;

(b) An amount of solid oil cargo residues from cargo tanks equal to 0.1 percent of the deadweight tonnage of the largest oceangoing tanker serviced;

(c) An amount of ballast water containing oily mixtures and wash water from in-port tank washing equal to—

* * * * *

(d) An amount of liquid oil cargo residue based on the following percentages of deadweight tonnage of the largest oceangoing tanker serviced:

* * * * *

§ 158.250 [Amended]

63. In § 158.250, remove the words “oily bilge water”and add, in their place, the words “bilge water containing oily mixtures”.

46 CFR PART 172—SPECIAL RULES PERTAINING TO BULK CARGOES

64. The authority citation for part 172 continues to read as follows:

Authority: 46 U.S.C 3306, 3703, 5115; E.O. 12234, 45 FR 58801, 3 CFR, 1980 Comp., p. 277; 49 CFR 1.46.

65. Add § 172.048 to read as follows:

§ 172.048 Definitions.

As used in this subpart—

MARPOL 73/38 means the International Convention for the Prevention of Pollution from Ships, 1973, as modified by the Protocol of 1978 relating to that Convention

66. In § 172.065, in table 172.065(A), revise the heading of the table and, at the end of the table, immediately preceding footnote 1 to the table, add a new undesignated heading and entry for “GROUNDING PENETRATION FOR RAKING DAMAGE”; and, in table 172.065(B), revise the heading of the table to read as follows:

§ 172.065 Damage stability.

* * * * *

Table 172.065(a)—Extent of Damage
* * * * * * *
GROUNDING PENETRATION FOR RAKING DAMAGE
For tank vessels of 20,000 DWT and above, the following assumed bottom raking damage must supplement the damage assumptions:
Longitudinal extent | For vessels of 75,000 DWT and above, 0.6L measured from the forward perpendicular.
| For vessels of less than 75,000 DWT, 0.4L measured from the forward perpendicular.
Transverse extent | B/3 anywhere in the bottom.
Vertical extent | Breach of the outer hull.
* * * * * * *

Table 172.065(b)—Permeability

* * * * *

68. Add § 172.070 to read as follows:

§ 172.070 Intact stability.

All tank vessels of 5,000 DWT and above contracted after the effective date of this rulemaking must comply with the intact stability requirements of Regulation 25A, annex I of MARPOL 73/78.

Dated: June 25, 2001.
Paul J. Pluta,
Rear Admiral, U.S. Coast Guard, Assistant Commandant for Marine Safety and Environmental Protection.

[FR Doc. 01-27256 Filed 11-01-01; 8:45 am]

BILLING CODE 4910-15-U